DEPARTMENT OF JUSTICE

Antitrust Division

Notice Pursuant to the National Cooperative Research and Production Act of 1993—DVD Copy Control Association

Notice is hereby given that, on March 21, 2007, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Cyrus Audio Limited, Huntingdon, Cambridgeshire, UNITED KINGDOM; Fuji Film Media Crest Co., Ltd., Tokyo, JAPAN; Hangzhou Silan Microelectronics Co., Ltd., HangZhou, PEOPLE'S REPUBLIC OF CHINA; Hansong (Nanjing Electronic Ltd., Nanjing, PEOPLE'S REPUBLIC OF CHINA; Jabil Circuit Hungary Ltd., Szombathely, HUNGARY; Protect Software GmbH, Dortmund, GERMANY; Quantum Optical Laboratories (QOL), Vernouillet, FRANCE; Shenzhen Jin Mei Wei Electron Co., Ltd., Shenzhen, PEOPLE'S REPUBLIC OF CHINA; Star Master SRL, Milano, ITALY; and Victory Development Group Limited, Shenzhen, PEOPLE'S REPUBLIC OF CHINA; have been added as parties to this venture.

Also, Behavior Tech Computer Corp., Taipei, TAIWAN; BenQ Corporation, Taoyuan, TAIWAN; Citron Electronic Co., Ltd., Hong Kong, HONG KONG-CHINA; CKC Electronic Corp., Taipei Hsien, TAIWAN; Digitalway, Gyeonggi-Do, REPUBLIC OF KOREA; Enlight Corporation, Taoyuan, TAIWAN; Future Media Productions Inc., Valencia, CA; Global Brands Manufacture Ltd., Guangdong, PEOPLE'S REPUBLIC OF CHINA; Gradiente Electronica S.A., Sao Paulo, BRAZIL; GVG Digital Technology Holdings (HK) Limited, Shatin, Hong Kong, HONG KONG-CHINA; Hitachi High-Technologies Corporation, Tokyo, JAPAN; Humax Co., Ltd., Gyeonggi-Do, REPUBLIC OF KOREA; Jabil Circuit, Hong Kong, HONG KONG-CHINA; Kestrelink Corp., Boise, ID; Laser Disc Argentina S.A., Buenos Aires, ARGENTINA; Media Mastering Services, LLC, Brae, CA; Mikasa Shoji, Osaka, JAPAN; Orient Power Multimedia Ltd., Kowloon, Hong Kong, HONG KONG-CHINA; Paramount Digital Technology (Huizhou) Co., Ltd., Huizhou, PEOPLE'S REPUBLIC OF CHINA; PHD Electronics, Hong Kong, HONG KONG-CHINA; Shanghai Thakral Electronics Industrial Corporation, Ltd., Shanghai, PEOPLE'S REPUBLIC OF CHINA; Shantou Hi-Tech Zone Idall Enterprise Co., Ltd., Guandong, PEOPLE'S REPUBLIC OF CHINA; Shenzhen Skywood Info-Tech Industries Co., Ltd. Shenzhen, PEOPLE'S REPUBLIC OF CHINA; Shenzhen Sobon Digital Technology Dev. Co., Ltd., Shenzhen, PEOPLE'S REPUBLIC OF CHINA; Sichuan Changhong Electronic Co., Ltd., Sichuan, PEOPLE'S REPUBLIC OF CHINA; and UAV Corporation, Fort Mill, SC have withdrawn as parties to this venture. In addition, MJTel Co., Ltd. has changed its name to KalosNett, Seoul, REPUBLIC OF KOREA.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on December 19, 2006. a notice was published in the Federal Register pursuant to Section 6(b) of the Act on January 25, 2007 (72 FR 3415).

Patricia A. Brink,
Deputy Director of Operations, Antitrust Division.

[FR Doc. 07-2852 Filed 6-7-07; 8:45 am]

BILLING CODE 4410-11-M